DEPARTMENT OF HEALTH AND HUMAN SERVICES

Administration for Children and Families

Program Announcement No. ACF/ACYF/CB FY 2001-01A; Announcement of the Availability of Financial Assistance and Request for Applications to Support Adoption Opportunities Demonstration Projects, Child Abuse and Neglect Discretionary Activities, Abandoned Infants Assistance Awards, and Project To Build the Analytical Capacity of State Child Welfare Programs

AGENCY: Administration on Children, Youth and Families (ACYF), ACF.

ACTION: Correction.

SUMMARY: This document contains a correction to the Notice that was published in the Federal Register on Tuesday, May 1, 2001 (66 FR 21760). On page 21761, Column three, the information in the “Project Duration” section of priority area 2001B.1 National Resource Center on Child Maltreatment is in error. The correct information is as follows: The cooperative agreement will be awarded for a project period not to exceed 36 months. The initial grant award will be awarded for a 12-month budget period. The award of continuation funding beyond the 12-month budget period will be subject to the availability of funds, satisfactory progress on the part of the grantee, and a determination that continued funding would be in the best interest of the government.

FOR FURTHER INFORMATION CONTACT: The ACYF Operations Center at 1-800-351-2293 or send an email to cb@cgnet.com. You may also contact Sally Flanzer, Children's Bureau, at 202-215-8914.

Dated: May 18, 2001.
James A. Harrell,
Acting Commissioner, Administration on Children, Youth and Families.

[FR Doc. 01-13044 Filed 5-22-01; 8:45 am]

BILLING CODE 4184-01-M